DEPARTMENT OF HOUSING AND URBAN DEVELOPMENT

[Docket No. FR-5030-FA-02]

Announcement of Funding Awards for the Indian Community Development Block Grant Program for Fiscal Year 2006

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2006 (FY2006) Notice of Funding Availability (NOFA) for the Indian Community Development Block Grant (ICDBG) Program. This announcement contains the consolidated names and addresses of this year's award recipients under the ICDBG.

FOR FURTHER INFORMATION CONTACT: For questions concerning the ICDBG Program awards, contact the Area Office of Native American Programs (ONAP) serving your area or Deborah M. Lalancette, Office of Native Programs, 1670 Broadway, 23rd Floor, Denver, CO 80202, telephone (303) 675-1600. Hearing or speech-impaired individuals may access this number via TTY by calling the toll-free Federal Information Relay Service at (800) 877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY2006 awards announced in this notice were selected for funding in a competition announced in a NOFA published in the Federal Register on March 8, 2006, (71 FR 11728). Applications were scored and selected for funding based on the selection criteria in that notice and Area ONAP geographic jurisdictional competitions.

The amount appropriated in FY2006 to fund the ICDBG was $59,400,000. $3,970,000 of this amount was retained to fund imminent threat grants in FY2006. In addition, a total of $2,108,587 in carryover funds from prior years was also available. The allocations for the Area ONAP geographic jurisdictions, including carryover, are as follows:

Eastern/Woodlands | $6,722,067
Southern Plains | 12,199,013
Northern Plains | 7,109,840
Southwest | 21,193,809
Northwest | 3,516,489
Alaska | 6,807,369
Total | $57,548,587

In accordance with Section 102 (a)(4)(C) of the Department of Housing and Urban Development Reform Act of 1989 (103 Stat.1987, 42 U.S.C. 3545), the Department is publishing the names, addresses, and amounts of the 85 awards made under the various regional competitions in Appendix A to this document.

Dated: March 28, 2007.
Orlando J. Cabrera,
Assistant Secretary for Public and Indian Housing.

Appendix A

FY 2006 Indian Community Development Block Grant Awards
Name of applicant | Amount funded | Project description
Nottaweseppi Huron Band of Potawatomi, Inc., Dan Green, Grants Writer, 2221 1½ Mile Rd., Fulton, MI 49052, 616-249-0159 | $600,000 | Community Center, Phase II.
Lac du Flambeau Band of Lake Superior Chippewa Indians, Emerson Coy, Grants Writer, P.O. Box 67, 602 Peace Pipe Rd., Lac Du Flambeau, WI 54538, 715-588-4252 | $600,000 | Construction/replacement of two wells & pump houses.
White Earth Band of the Minnesota Chippewa, Michael Triplett, Grants Writer, P.O. Box 418, White Earth, MN 56359, 218-983-3285 | $600,000 | Pow Wow Grounds infrastructure.
Ho-Chunk Nation, Jeff Hendricks, Grant Writer, W9814 Airport Rd., PO Box 667, Black River Falls, WI 54615, 715-284-9343 | $600,000 | Blue Wing Elder Center Project.
Pokagon Band of Potawatomi Indians, Tim Fenderbosch, Grants Planner, PO Box 180, 58620 Sink Rd., Dowagiac, MI 49047, 269-782-6323 | $432,067 | Tribal Complex Infrastructure Project.
Poarch Band of Creek Indians, Robert McGee, Grants Writer, 5811 Jack Springs Rd., Atmore, AL 36502 | $600,000 | Community Cultural Education Center.
Red Cliff Band of Lake Superior Chippewas, Jeff Benton, Grants Planner, 88385 Pike Rd., Hwy 13, Bayfield, WI 54814, 715-779-3700 x234 | $500,000 | Walking Shield.
Upper Sioux Community, Audrey Fuller, Planner, 2511 565th St., Granite Falls, MN 56241, 612-309-5708 | $390,000 | Construction of ambulatory care clinic.
Fond du Lac Band of Lake Superior Chippewa, Jason Holliday, Grants Writer, 1720 Big Lake Rd., Cloquet, MN 55720, 218-878-2625 | $600,000 | Fond du Lac LEED Building Pilot Project.
Grand Traverse Band of Ottawa & Chippewa Indians, Tara Bailey, Grants Writer, 2605 N. West Bayshore Dr., Suttons Bay, MI 49682, 231-534-7449 | $600,000 | Elders Complex Improvements.
Menominee Indian Tribe of WI, Jeremy Weso, Planner, W2908 Tribal Office Loop Rd., Keshena, WI 54135, 715-799-5154 | $600,000 | Menominee Museum Cultural Center.
Red Lake Band of Chippewa Indians of MN, Dawn Huseby, Grants Writer, PO Box 574, Red Lake, MN 56671, 218-679-3341 | $600,000 | Boys & Girls Club Construction.
Absentee-Shawnee Tribe, Governor Larry Nuckolls, 2025 South Gordon Cooper Drive, Shawnee, OK 74801, (405) 275-4030 | $240,000 | Absentee Shawnee Housing, Energy Star Rehabilitation.
Chickasaw Nation, Governor Bill Anoatubby, PO Box 1548, Ada, OK 74821, (580) 436-7216 | $800,000 | Day Care Center.
Choctaw Nation, Chief Gregory E. Pyle, PO Drawer 1210, Durant, OK 74702, (580) 924-8280 | $800,000 | Hugo Wellness Center.
Citizen Potawatomi Nation, Chairman John A. Barrett, 1601 South Gordon Cooper Drive, Shawnee, OK 74801, (405) 275-3121 | $800,000 | Citizen Potawatomi Nation, Small Ambulatory Health Clinic.
Eastern Shawnee Tribe, Chief Charles Enyart, PO Box 350, Seneca, MO 64865, (918) 666-2435 | $800,000 | Family and Children's Services Building.
Kaw Nation, Chairman Guy Munroe, PO Box 50, Kaw City, OK 74641, (580) 269-2552 | $800,000 | Kaw Nation Education and Learning Center.
Miami Tribe, Chief Floyd Leonard, PO Box 1326, Miami, OK 74355, (918) 542-1445 | $800,000 | Myaamia Wellness Center.
Ottawa Tribe, Chief Charles Todd, PO Box 110, Miami, OK 74355, (918) 540-1536 | $800,000 | Housing Rehabilitation.
Pawnee Nation, President Ronald Rice, PO Box 470, Pawnee, OK 74058, (918) 762-3621 | $800,000 | Pawnee Health and Community Services Center.
Ponca Tribe, Chairman Dan Jones, 20 White Eagle Dr., Ponca City, OK 74601, (580) 762-8104 | $64,586 | Storm Shelters.
Ponca Tribe, Chairman Dan Jones, 20 White Eagle Dr., Ponca City, OK 74601, (580) 762-8104 | $733,371 | Cultural Center.
Prairie Band Potawatomi Nation, Chairman Tracy Stanhoff, 16281 Q Road, Mayetta, KS 66509, (785) 966-2255 | $800,000 | Water Treatment Facility.
Quapaw Tribe, Chairman Donna Mercer, PO Box 765, Quapaw, OK 74363, (918) 542-1853 | $762,335 | Quapaw Elderly Activity Center.
Sac and Fox of OK, Principal Chief Elizabeth Kay Rhoads, Route 2, Box 246, Stroud, OK 74079, (918) 968-3526 | $800,000 | Historic Preservation and Cultural Resources Community Center.
Seneca-Cayuga Tribe, Chief Paul Spicer, PO Box 1283, Miami, OK 74355, (918) 542-6609 | $798,721 | Wellness Center.
Shawnee Tribe, Chairman Ron Sparkman, PO Box 189, Miami, OK 74355, (918) 542-2441 | $800,000 | Community Center.
United Keetoowah Band of Cherokee Indians, Chief George Wickliffe, PO Box 746, Tahlequah, OK 74465-0746, (918) 456-5126 | $800,000 | Civil Defense Station.
Native Village of Venetie, Eddie Frank, First Chief, 110 Woodyard Road, Venetie, AK 99781, 907-849-8212 | $423,000 | Construct 2 single-family homes.
Arctic Village, Margorie Gemmill, First Chief, P.O. Box 69, Arctic Village, AK 99722, 907-587-5523 | $400,000 | Construct 2 single-family homes.
Curyung Tribal Council, Thomas Tilden, First Chief, P.O. Box 216, Dillingham, AK 99576, 907-842-2384 | $500,000 | Construct 10 single-family homes.
Native Village of Pilot Point, Victor Seybert, President, P.O. Box 449, Pilot Point, AK 99649, 907-797-2208 | $500,000 | Health Clinic.
Native Village of Tuntutuliak, Nick David, President, P.O. Box 8086, Tuntutuliak, AK 99680, 907-256-2128 | $234,290 | Health Clinic.
Tlingit Haida Central Council, Corrine Garza, Chief, 9097 Glacier Highway, Juneau, AK 99801, 907-463-7107 | $429,364 | Fund start-up of 20 micro-enterprises.
Hughes Village, Jeff Weltzin, Grant Preparer, 103 Front St., Hughes, AK 99745, 907-456-3794 | $481,850 | Solid Waste landfill.
St. Paul Island, Robert Melovidor, President, P.O. Box 86, St. Paul Island, AK 99660, 907-546-3221 | $500,000 | Rehab 10 homes.
Village of Kotlik, Reynold Okitkun, President, P.O. Box 20210, Kotlik, AK 99620, 907-899-4326 | $289,643 | Health Clinic.
Native Village of Goodnews Bay, Bavilla Merritt, President, P.O. Box 50, Goodnews Bay, AK 99589, 907-967-8930 | $400,000 | Health Clinic.
Native Village of Perryville, Gerald Kosbruk, President, P.O. Box 101, Perryville, AK 99648, 907-853-2203 | $500,000 | Health Clinic.
Village of Atmautluak, Peter Jenkins, President, P.O. Box 6568, Atmautluak, AK 99559 | $500,000 | Rehab 10 homes.
Orutsararmiut Native Village, Flora Orlun, Executive Director, P.O. Box 927, Bethel, AK 99559, 907-543-2608 | $149,222 | Street Improvements.
Akiachak Native Community, George Peter, President, P.O. Box 70, Akiachak, AK 99551, 907-825-4626 | $500,000 | Construct Tribal Services and Housing Building.
Native Village of Akutan, Dan Duame, Executive Director, P.O. Box 89, Akutan, AK 99553, 907-563-2146 | $500,000 | Construct 4 single-family homes.
Akiak Native Community, Sheila Williams, Tribal Administrator, P.O. Box 52127, Akiak, AK 99552, 907-765-7112 | $500,000 | Water/sewer Expansion.
Ak-Chin Indian Community, Anita Avila, Grants Specialist, 42507 W. Peters & Nall Rd., Maricopa, AZ 85239, (520) 568-1064 | $605,000 | Library Wing Construction.
Bear River Band of Rohnerville Rancheria, Bruce Merson, Tribal Housing Director, 27 Bear River Drive, Loleta, CA 95551, (707) 407-6617 | $604,131 | New Housing Construction.
Bishop Paiute Tribe, Robert Vance, Grant Coordinator, 50 Tu Su Lane, Bishop, CA 93514, (760) 872-4356 | $605,000 | Head Start & Community Center.
Cocopah Indian Tribe, Michael Reed, CEO, Cocopah Housing & Development, County 15, Avenue G, Somerton, AZ 85350, (928) 627-8863 | $600,000 | Rehab of 12 Rental Units.
Colorado River Indian Tribes, Rick Ench, Tribal Planner, Route 1, Box 23-B, Parker, AZ 85344, (928) 669-1301 | $825,000 | Juvenile Shelter Home Facility.
Dry Creek Rancheria Band of Pomo Indians, Barb Pegg, Housing Manager, 190 Foss Creek Circle, Healdsbury, CA 95448, (707) 473-2178 | $605,000 | Childcare Facility.
Hopi Tribe, Daniel Honanie, President, Moenkopi Developers Corp., 1 Main St., P.O. Box 123, Kykotsmovi, AZ 86039, (928) 606-2680 | $2,200,000 | Hotel/Conference Center.
Hualapai Indian Tribe, Salena Siyuja, Grants & Contracts Manager, P.O. Box 179, Peach Springs, AZ 86434, (928) 769-2216 | $825,000 | Social Services Center/Safe House.
Karuk Tribe of California, Erin Hillman, Grants Writer, P.O. Box 1016, Happy Camp, CA 96039, (530) 493-1600, ext. 2017 | $605,000 | Cultural Center.
Mesa Grande Band of Mission Indians, Mark Romero, Chairperson, P.O. Box 267, Santa Ysabel, CA 92070, (760) 782-3818 | $604,800 | Community Education Center.
Moapa Band of Paiute Indians, Bill Cornelius, Acting Tribal Administrator, P.O. Box 340, Moapa, NV 89025, (702) 865-2787 | $605,000 | Multi-Purpose Community Building.
Navajo Nation, Chavez John, Supervisor, Dept. of Community Development, P.O. Box 9000, Window Rock, AZ 86515, (928) 871-6539 | $4,002,951 | Power lines/Waterlines Extensions.
Ohkay Owingeh, Les King, Project Manager, P.O. Box 1099, San Juan Pueblo, NM 87566, (505) 747-0700 | $605,000 | Road Improvements.
Pueblo of Nambe, Irene Tse-Pe, Tribal Administrator, Route 1, Box 117-BB, Santa Fe, NM 87506, (505) 455-2036 | $329,981 | New Housing Development.
Pueblo of Sandia, Charles Padilla, Program Manager, 481 Sandia Loop, Bernalillo, NM 87004, (505) 771-5064 | $605,000 | Water System Improvements.
Quartz Valley Reservation, Kurt Simon, Tribal Administrator, 13601 Quartz Valley Road, Fort Jones, CA 96032, (530) 468-5907 | $605,000 | Gymnasium Expansion.
Robinson Rancheria of Pomo Indians, Yolanda Lathem, Community Development Representative, 1545 East Hwy 20, Nice, CA 95454-4015, (707) 275-0527, ext. 13 | $514,250 | Purchase and Installations of 6 Manufactured Homes.
Robinson Rancheria of Pomo Indians, Yolanda Lathem, Community Development Representative, P.O. Box 4015, Nice, CA 95454-4015, (707) 275-0527, ext. 13 | $56,784
San Pasqual Band of Mission Indians, Don Calac, Housing Director, P.O. Box 365, Valley Center, CA 92082, (760) 749-3200 | $605,000 | Water Waster Improvements.
San Xavier District, Kelly Moyes, Grants Manager, 2018 W. San Xavier Road, Tucson, AZ 85746, (520) 573-4005 | $621,123 | Rehab 21 Units.
Santa Ysabel Band of Diegueno Indians, Michelle Baay, Housing Director, P.O. Box 130, Santa Ysabel, CA 92070, (760) 765-0845 | $605,000 | New Housing Construction, 6 Units.
Wahoe Tribe of Nevada & California, Debby Carlson, Grants & Contracts Manager, 919 Highway 395 South, Gardnerville, NV 89410, (775) 265-4191 | $605,000 | Multi-Purpose Community Center.
White Mountain Apache Tribe, Byron McNeil, Community Development Manager, P.O. Box 700, Whiteriver, AZ 85941, (928) 338-2464 | $2,750,000 | Expansion of Detention Center.
Yurok Tribe, Peggy O'Neill, Tribal Planner, P.O. Box 1027, Klamath, CA 95548, (707) 482-1350 | $604,789 | Recreation & Community Center.
Burns Paiute Tribe, Chester Dean, Tribal Chairman, 100 Pasigo Street, Burns, OR 97720, (541) 573-2088 | $500,000 | Housing Rehabilitation.
Southern Puget Sound Inter-Tribal Housing Authority (For Hoh Tribe), Dave Bell, Executive Director, SE 11 Squaxin Drive, Shelton, WA 98584, (360) 426-4641 | $435,750 | Housing Rehabilitation.
Tulalip Tribe, Stanley Jones, Tribal Chairman, 6700 Totem Beach Road, Tulalip, WA 98271, (360) 651-4500 | $300,000 | Public Facilities and Improvements.
Kalispel Tribe of Indians, Glen Nenema, Chairman, PO Box 39, Usk, WA 99180, (509) 445-1147 | $290,895 | Public Facilities and Improvements.
Squaxin Island Tribe, James Peters, Executive Director, 10 SE Squaxin Drive, Shelton, WA 98584, (360) 426-9781 | $500,000 | Housing Rehabilitation.
Klamath Tribes, Allen Foreman, Tribal Chairman, 501 Chiloquin, Chiloquin, OR 97624, (541) 783-2219 | $489,844 | Public Facilities and Improvements.
Confederated Tribes of the Grand Ronde Community of Oregon, Chris Mercier, Tribal Chairman, 9615 Grand Ronde Road, Grand Ronde, OR 97347, (503) 879-2250 | $500,000 | Public Facilities and Improvements.
Coeur d'Alene Tribe, Chief Allan, Tribal Chairman, 850 A Street, PO Box 408, Plummer, ID 83851, (208) 686-1800 | $500,000 | Housing Rehabilitation.
Chippewa Cree Tribe, John Houle, Tribal Chairman, R.R. #1, P.O. Box 544, Box Elder, MT 59521, (406) 395-4478 | $900,000 | Public Facility.
Crow Tribe of Indians, Carl Venne, Tribal Chairman, P.O. Box 159, Crow Agency, MT 59022, (406) 638-3715 | $1,100,000 | Housing Rehabilitation.
Ho-Chunk Community Development Corporation, Judi Meyer, Executive Director, P.O. Box 264, Walthill, NE 68067, (402) 846-5353 | $900,000 | Housing Rehabilitation.
Lower Brule Sioux Tribe, Michael Jandreau, Tribal Chairman, 187 Oyate Circle, Lower Brule, SD 57548, (605) 473-5561 | $900,000 | Housing Rehabilitation.
Ponca Tribe of Nebraska, Larry Wright, Tribal Chairman, P.O. Box 288, Niobrara, NE 68760, (402) 438-9222 | $609,840 | Public Facility.
Three Affiliated Tribes, Marcus Wells, Jr., Tribal Chairman, 404 Frontage Road, New Town, ND 58763, (701) 627-4781 | $900,000 | Public Facility.
Turtle Mountain Band of Chippewa, David Brien, Tribal Chairman, P.O. Box 900, Belcourt, ND 58316, (701) 477-2639 | $900,000 | Housing Rehabilitation.
Ute Mountain Ute Tribe, Manuel Heart, Tribal Chairman, P.O. Box 52, Towaoc, CO 81334, (970) 565-3751 | $900,000 | New Housing Construction.

[FR Doc. E7-8140 Filed 4-27-07; 8:45 am]

BILLING CODE 4210-67-P